DEPARTMENT OF LABOR

Employment and Training Administration

[TA-W-51,335]

General Electric Industrial Systems, Drives & Controls, Inc., Salem, VA; Notice of Negative Determination Regarding Application for Reconsideration

By application of June 9, 2003, a petitioner requested administrative reconsideration of the Department's negative determination regarding eligibility for workers and former workers of the subject firm to apply for Trade Adjustment Assistance (TAA). The denial notice applicable to workers of General Electric Industrial Systems, Drives and Controls, Inc., Salem, Virginia was signed on April 24, 2003, and published in the Federal Register on May 9, 2003 (68 FR 25060).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition was filed on behalf of workers at General Electric Industrial Systems, Drives and Controls, Inc., Salem, Virginia engaged in activities related to “editing and formatting” of customer instruction manuals. The petition was denied because the petitioning workers did not produce an article within the meaning of section 222(3) of the Act.

The petitioner alleges that the Department did not correctly assess the worker group functions, that in addition to editing and formatting, workers also “create, develop and publish” customer instruction manuals. The petitioner emphasizes that the operating instructions contained in these manuals are essential to the operation of the products they accompany in the retail market and is unclear as to why “publications” should not be considered “articles” as described in section 222 of the Trade Act.

Review of the initial investigation reveals that a company official stated that content writing and editing was performed at the subject facility, and that this work function was shifted to a foreign GE affiliate. However, the writing performed is sent back to the Salem, Virginia facility via electronic copy in order to be printed and published. Informational material that is electronically transmitted is not considered production within the context of TAA eligibility requirements, so there are no imports of products in this instance. Further, as the manual does not become a product until it is printed, petitioning workers did not produce an “article” within the meaning of the Trade Act of 1974.

Only in very limited instances are service workers certified for TAA, namely the worker separations must be caused by a reduced demand for their services from a parent or controlling firm or subdivision whose workers produce an article and who are currently under certification for TAA.

Conclusion

After review of the application and investigative findings, I conclude that there has been no error or misinterpretation of the law or of the facts which would justify reconsideration of the Department of Labor's prior decision. Accordingly, the application is denied.

Signed at Washington, DC, this 13th day of June, 2003.
Elliott S. Kushner,
Certifying Officer, Division of Trade Adjustment Assistance.

[FR Doc. 03-16895 Filed 7-2-03; 8:45 am]

BILLING CODE 4510-30-P